INTERNATIONAL TRADE COMMISSION

[Investigation No. 701-TA-405 (Section 129 Consistency Determination)]

Hot-Rolled Steel Products From India; Scheduling of a Countervailing Duty Proceeding Under the Uruguay Round Agreements Act (URAA)

AGENCY: United States International Trade Commission.

ACTION: Notice.

SUMMARY: The Commission hereby gives notice of the schedule for issuance of a consistency determination following receipt on November 6, 2015, of a request from the United States Trade Representative (USTR) for a determination under section 129(a)(4) of the URAA that would render the Commission's action in connection with its countervailing duty investigation regarding imports of hot-rolled steel products from India, in Inv. No. 701-TA-405, not inconsistent with the recommendations and rulings of the Dispute Settlement Body (DSB) of the World Trade Organization (WTO) in United States—Countervailing Measures on Certain Hot-Rolled Carbon Steel Flat Products from India (DS436).

DATES: Effective date: November 6, 2015.

FOR FURTHER INFORMATION CONTACT: Douglas E. Corkran (202-205-3057), Office of Investigations, or Robin L. Turner (202-205-3103), Office of the General Counsel, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

For further information concerning the conduct of this proceeding and rules of general application, consult the Commission's Rules of Practice and Procedure, part 201, subparts A through E (19 CFR part 201), and part 207, subparts A and C (19 CFR part 207).

SUPPLEMENTARY INFORMATION: Background.— On December 19, 2014, the DSB of the WTO adopted its recommendations and rulings in the dispute entitled United States—Countervailing Measures on Certain Hot-Rolled Carbon Steel Flat Products from India (DS436). On January 16, 2015, the United States informed the DSB of the U.S. intention to comply with its WTO obligations in this dispute. On November 6, 2015, the Commission received a request from USTR for a consistency determination under section 129(a)(4) of the URAA that would render the Commission's action in connection with its countervailing duty investigation regarding hot-rolled steel imports from India not inconsistent with the DSB recommendations and rulings in United States—Countervailing Measures on Certain Hot-Rolled Carbon Steel Flat Products from India (DS436). (This proceeding involves the Commission's affirmative determination in the countervailing duty investigation regarding hot-rolled steel imports from India in Inv. Nos. 701-TA-404-408 and 731-TA-899-904 and 906-908 (Final), USITC Pub. 3446 (Aug. 2001) and USITC Pub. 3468 (Nov. 2001).) This request follows from the Commission's affirmative advisory report on October 23, 2015 in response to USTR's request, under section 129(a)(1) of the URAA, that Title VII of the Tariff Act of 1930 permitted the Commission to take steps in connection with its countervailing duty investigation regarding imports of hot-rolled steel products from India in Investigation No. 701-TA-405 that would render its action in that proceeding not inconsistent with the DSB recommendations and rulings in DS436. The Commission must issue its consistency determination within 120 days of the section 129(a)(4) request, or by March 7, 2016.

Participation in this proceeding and public service list.—Those persons who were interested parties participating in the original countervailing duty investigation regarding imports of hot-rolled steel products from India (i.e., persons listed on the Commission Secretary's service list for Inv. No. 701-TA-405 (Final)), in addition to the Government of India, may participate in this proceeding. If an interested party is a successor firm to an interested party that participated in the original countervailing duty investigation regarding imports of hot-rolled steel products from India, please so indicate and describe the relationship. Interested parties, as described above, wishing to participate in this proceeding as parties must file an entry of appearance with the Secretary to the Commission, as provided in section 201.11 of the Commission's rules, no later than December 11, 2015. The Secretary will maintain a public service list containing the names and addresses of all persons, or their representatives, who are parties to the investigation.

Limited disclosure of business proprietary information (BPI) under an administrative protective order (APO) and BPI service list.—Pursuant to section 207.7(a) of the Commission's rules, the Secretary will make BPI regarding this proceeding available to authorized applicants under the APO issued in this proceeding, provided that the application is made no later than December 15, 2015. Authorized applicants must represent interested parties, as defined by 19 U.S.C. 1677(9), who are parties to this proceeding. A separate service list will be maintained by the Secretary for those parties authorized to receive BPI under the APO.

Limitations on the scope of this proceeding.—This proceeding is being conducted in order for the Commission to make a determination that would render its determination in the countervailing duty investigation regarding imports of hot-rolled steel products from India, in Inv. No. 701-TA-405, not inconsistent with the DSB recommendations and rulings in DS436. Thus, this proceeding only involves issues related to the DSB recommendations and rulings and does not involve issues that were not in dispute in DS436 or on which the United States was found in conformity with its obligations under the WTO Agreement on Subsidies and Countervailing Measures. The DSB recommendations and rulings in this regard are set out in paragraphs 4.587 to 4.600 of the Appellate Body report (WT/DS436/AB/R) (https://www.wto.org/english/tratop_e/dispu_e/cases_e/ds436_e.htm); its conclusions based on these findings is set out in paragraph 5.1(h)(i) of the report. Any material in the interested parties' written comments that addresses any issue beyond those set forth in these paragraphs will be disregarded.

Staff report.—The supplemental staff report in this proceeding will be placed in the nonpublic record on December 21, 2015, and a public version will be issued thereafter.

Written submissions.—Each party who is an interested party may submit one set of written comments to the Commission. Written comments will be limited to no more than fifty (50) double-spaced and single-sided pages of textual material. The deadline for filing written comments is January 8, 2016. All written submissions must conform with the provisions of section 201.8 of the Commission's rules; any submissions that contain BPI must also conform with the requirements of sections 201.6, 207.3, and 207.7 of the Commission's rules. The Commission's Handbook on E-Filing, available on the Commission's Web site at http://edis.usitc.gov, elaborates upon the Commission's rules with respect to electronic filing.

Additional written submissions to the Commission, including requests pursuant to section 201.12 of the Commission's rules, will not be accepted unless good cause is shown for accepting such submissions, or unless the submission is pursuant to a specific request by a Commissioner or Commission staff.

In accordance with sections 201.16(c) and 207.3 of the Commission's rules, each document filed by a party to this proceeding must be served on all other parties to this proceeding (as identified by either the public or BPI service list), and a certificate of service must be timely filed. The Secretary will not accept a document for filing without a certificate of service.

Authority: This proceeding is being conducted under authority of title VII of the Tariff Act of 1930 and section 129 of the URAA.

Issued: November 25, 2015.
By order of the Commission.
Lisa R. Barton,
Secretary to the Commission.

[FR Doc. 2015-30441 Filed 11-30-15; 8:45 am]

BILLING CODE 7020-02-P